DEPARTMENT OF THE INTERIOR

National Park Service

36 CFR Part 7

RIN 1024-AD29

Special Regulations; Areas of the National Park System

AGENCY: National Park Service, Interior.

ACTION: Proposed rule.

SUMMARY: The National Park Service is proposing this rule to more effectively manage winter visitation and recreational use in Yellowstone and Grand Teton National Parks and the John D. Rockefeller, Jr., Memorial Parkway for up to three winter seasons (i.e., through the winter of 2006-2007). This proposed rule is issued in conjunction with the Temporary Winter Use Plans Environmental Assessment (EA) and will ensure that visitors to the parks have an appropriate range of winter recreational opportunities for an interim period. In addition, the proposed rule will ensure that these recreational activities are in an appropriate setting and that they do not impair or irreparably harm park resources or values. The proposed rule is also necessary to allow time to collect additional monitoring data on strictly limited snowmobile and snowcoach use. The proposal provides a structure for winter use management in the parks for an interim period and is intended to reduce confusion and uncertainty among the public and local communities about winter use. These temporary regulations would continue to require that recreational snowmobiles and snowcoaches operating in the parks meet certain air and sound restrictions, snowmobilers be accompanied by a commercial guide, and proposes new daily entry limits on the numbers of snowmobiles that may enter the parks. Traveling off designated oversnow routes will remain prohibited.

DATES: Comments must be received by October 7, 2004.

ADDRESSES: Comments may be sent to Yellowstone National Park, Winter Use Proposed Rule, P.O. Box 168, Yellowstone NP, WY 82190. Comments may also be submitted online at http://www.nps.gov/yell/winteruse-ea.

FOR FURTHER INFORMATION CONTACT: John Sacklin, Planning Office, Yellowstone National Park, 307-344-2019 or at the address listed in the ADDRESSES section.

SUPPLEMENTARY INFORMATION: The National Park Service (NPS) has been managing winter use issues in Yellowstone National Park (YNP), Grand Teton National Park (GTNP), and the John D. Rockefeller, Jr., Memorial Parkway (the Parkway) for several decades. In 1997 the Fund for Animals and others filed suit, alleging violations of non-compliance with the National Environmental Policy Act (NEPA), among other laws. The suit resulted in a settlement agreement in October 1997 which, among other things, required the NPS to prepare a new winter use plan for the three park units. On October 10, 2000, a Winter Use Plans Final Environmental Impact Statement (FEIS) was published for YNP, GTNP, and the Parkway. A Record of Decision (ROD) was signed by the Intermountain Regional Director on November 22, 2000, and subsequently distributed to interested and affected parties. The ROD selected FEIS Alternative G, which eliminated both snowmobile and snowplane use from the parks by the winter of 2003-2004, and provided access via an NPS-managed, mass-transit snowcoach system. This decision was based on a finding that the snowmobile and snowplane use existing at that time, and the snowmobile use analyzed in the FEIS alternatives, impaired park resources and values, thus violating the statutory mandate of the NPS.

Implementing aspects of this decision required a special regulation for each park unit in question. Following publication of a proposed rule and the subsequent public comment period, a final rule was published in the Federal Register on January 22, 2001 (66 FR 7260). The rule became effective on April 22, 2001.

On December 6, 2000, the Secretary of the Interior, the Director of the National Park Service and others in the Department of the Interior and the NPS were named as defendants in a lawsuit brought by the International Snowmobile Manufacturers' Association (ISMA) and several groups and individuals. The States of Wyoming and Montana subsequently intervened on behalf of the plaintiffs. Following promulgation of final regulations, the original complaint was amended to also challenge the regulations. The lawsuit asked for the decision, as reflected in the ROD, to be set aside. The lawsuit alleged among other things, violation of NEPA. A procedural settlement was reached on June 29, 2001, under which, NPS agreed to prepare a Supplemental Environmental Impact Statement (SEIS) incorporating “any significant new or additional information or data submitted with respect to a winter use plan.” Additionally, the NPS provided the opportunity for additional public participation in furtherance of the purposes of NEPA. A Notice of Intent to prepare a Supplemental Environmental Impact Statement was published in the Federal Register on July 27, 2001 (66 FR 39197).

A draft SEIS was published on March 29, 2002, and distributed to interested and affected parties. NPS accepted public comments on the draft for 60 days, and 357,405 pieces of correspondence were received. The draft SEIS examined four additional alternatives: two alternatives to allow some form of snowmobile access to continue, a no-action alternative that would implement the November 2000 ROD, and another alternative that would implement the no-action alternative one year later to allow additional time for phasing in snowcoach-only travel. The SEIS focused its analysis only on the issues relevant to allowing recreational snowmobile and snowcoach use in the parks. These impact topics included air quality and air quality related values, employee health and safety, natural soundscapes, public health and safety, socioeconomics, wildlife (bison and elk), and visitor experience. The SEIS did not re-evaluate the decision to ban snowplane use on Jackson Lake because this had not been an issue in the lawsuit, and was not an aspect of the resulting settlement.

On November 18, 2002, the NPS published a final rule (67 FR 69473) (“delay rule”) based on the FEIS, which generally postponed implementation of the phase-out of snowmobiles in the parks for one year. This rule allowed for additional time to plan and implement the NPS-managed mass-transit, snowcoach-only system outlined in the FEIS as well as time for completion of the SEIS. The rule delayed the implementation of the daily entry limits on snowmobiles until the winter of 2003-2004 and the complete prohibition on snowmobiles until 2004-2005. The 2001 regulation's transitional requirement that snowmobile parties use an NPS-permitted guide was also delayed until the 2003-2004 winter use season.

Other provisions under the January 2001 regulation concerning licensing requirements, limits on hours of operation, Yellowstone side road use and the ban on snowplane use remained effective for the winter use season of 2002-2003.

The Notice of Availability for the final SEIS was published on February 24, 2003 (68 FR 8618). The final SEIS included a new alternative, alternative 4, consisting of elements which fell within the scope of the analyses contained in the Draft SEIS and which was identified as the preferred alternative. In addition, the final SEIS included changes to the alternatives, included changes in modeling assumptions and analysis, and incorporated additional new information. The Intermountain Regional Director signed a Record of Decision for the SEIS, which became effective on March 25, 2003. The ROD selected final SEIS alternative 4 for implementation, and enumerated additional modifications to that alternative. The final SEIS and ROD found that implementation of final SEIS alternatives 1a, 1b, 3, or 4 would not be likely to impair park resources or values due to motorized oversnow recreation. On December 11, 2003, the new regulation governing winter use in the parks was published.

On December 16, 2003, the U.S. District Court for the District of Columbia, ruling on lawsuits by the Fund for Animals, et al., and the Greater Yellowstone Coalition, et al., overturned the December 11, 2003, regulation and SEIS. The court reinstated the January 22, 2001, regulation phasing out recreational snowmobiling pursuant to the delay rule. Specifically, up to 493 snowmobiles a day were to be allowed into Yellowstone for the 2003-2004 season, and another 50 in Grand Teton and the Parkway combined. All snowmobiles in Yellowstone were required to be led by a commercial guide. Snowmobiles were to be phased out entirely from the parks in the 2004-2005 season.

ISMA and the State of Wyoming reopened their December 2000 lawsuit against the Department of the Interior and the NPS. Ruling upon the reopened suit on February 10, 2004, the U.S. District Court for the District of Wyoming issued a preliminary injunction preventing the NPS from continuing to implement the snowmobile phase-out. The court also directed the superintendents of Yellowstone and Grand Teton to issue emergency orders that were “fair and equitable” to all parties to allow visitation to continue for the remainder of the winter season. Under the authority of 36 CFR 1.5, the superintendents authorized up to 780 snowmobiles a day into Yellowstone, and up to 140 into Grand Teton and the Parkway combined. In Yellowstone, the requirement that all snowmobilers travel with a commercial guide remained in effect.

Judicial proceedings are continuing in both the Wyoming and Washington, DC, courts.

Park Resource Issues

The supporting EA focuses on analyzing the environmental impacts of five alternatives for interim winter use. The alternatives are not dramatically different from those considered in the SEIS or the EIS; thus, the EA incorporates and references these documents as appropriate. The major issues analyzed in the EA include social and economic issues, human health and safety, wildlife impacts, air quality impacts, natural soundscape, visitor use and access, and visitor experience. These impacts are detailed in the EA and are available online at: http://www.nps.gov/yell/winteruse-ea. Additional information is available in the SEIS and FEIS, available online at: http://www.nps.gov/grte/winteruse/intro.htm and http://www.nps.gov/yell/technical/planning/winteruse/plan/index.htm, respectively.

Impairment to Park Resources and Values

In addition to determining the environmental consequences of the alternatives, NPS policy (NPS 2000a) requires analysis of potential effects to determine whether actions would impair park resources. In managing National Park System units, the NPS may undertake actions that have both beneficial and adverse impacts on park resources and values. However, the NPS is generally prohibited by law from taking or authorizing any action that would or is likely to impair park resources and values. Impairment is an impact that, in the professional judgment of the responsible NPS manager, would harm the integrity of park resources or values, including the opportunities that otherwise would be present for the enjoyment of those resources or values.

The FEIS ROD, dated November 22, 2000, concluded that, of the seven alternatives evaluated in the FEIS, only one (alternative G), which called for a phase-out of snowmobile use in the parks, did not impair park resources. This was the basis for selecting this alternative, as described in the rationale for the decision in the November 2000 ROD. In all other FEIS alternatives, the existing snowmobile use in Yellowstone was found to impair air quality, wildlife, the natural soundscape, and opportunities for the enjoyment of the park by visitors. In Grand Teton, impairment to the natural soundscape and opportunities for enjoyment of the park was found to result from the impacts of snowmobile and snowplane use. In the Parkway, impairment was found to result from snowmobile use on air quality, the natural soundscape, and opportunities for enjoyment of the park. These findings were made for all alternatives with snowmobile use, including those that would have required phased-in use of cleaner and quieter snowmobiles in accordance with set objectives for air and sound emissions. It was determined that there was no way to mitigate the impairment short of reducing the amount of use as determined by an effective carrying capacity analysis, or by imposing a suitable limit unsupported by such an analysis.

The final rule implementing FEIS alternative G, published in the Federal Register on January 22, 2001, recognized that, “achieving compliance with the applicable legal requirements while still allowing snowmobile use would require very strict limits on the numbers of both snowmobile and snowcoaches.” Thus, the January 2001 rule recognized that some snowmobile and snowcoach use could possibly be accommodated in the parks through appropriate management actions without resulting in an impairment to park resources and values. The SEIS and March 25, 2003 ROD reinforced these conclusions.

The NPS believes that Alternative 4 of the Temporary Winter Use Plans EA would not impair park resources or values for several reasons. The alternative continues intensive monitoring of park resources and values, including air quality, natural soundscapes, wildlife, employee health and safety, and visitor experience. Alternative 4 is an intensively managed approach to preventing impairment of park resources and values through strict requirements on snowmobiles and snowcoaches and comprehensive monitoring. Alternative 4 sets daily entry limits that represent a use level just under the historical average number of snowmobiles entering YNP and will eliminate peak use days experienced in the past, while reducing overall snowmobile use, relative to historic averages. Limits on the numbers of snowmobiles will result in fewer conflicts with wildlife, fewer air and noise emissions, and improved road conditions. Limits on the numbers of snowmobiles also provide park managers with more predictable winter use patterns and an assurance that use cannot increase.

This alternative also mandates that all snowmobilers entering YNP be accompanied by a commercial guide. This requirement will reduce conflicts with wildlife along roadways because guides will be trained to deal with such situations. Commercial guides must also have reasonable control over their clientele, which greatly reduces unsafe and illegal snowmobile use. In this way, guides will ensure that park regulations are enforced and will provide a safer experience for visitors. The requirement that all snowmobilers travel with commercial guides will benefit natural soundscapes, since commercially guided parties tend to travel in relatively large groups, resulting in longer periods when snowmobile sound is not audible.

Finally, this alternative requires that both snowmobiles and snowcoaches entering the parks meet best available technology (BAT) requirements. This requirement will ensure that all recreational over-snow vehicles operating in the parks employ state of the art emissions control equipment.

Description of the Proposed Rule

The EA analyzed five alternatives with regard to winter use. These regulations propose to implement Alternative 4 from the EA. As previously outlined in the December 2003 regulations, many of the regulations regarding over-snow transportation have been in existence at the park under the authority of 36 CFR Part 7 or 36 CFR 1.5. Regulations such as the operating conditions, designated routes, and restricted hours of operation have been in effect and enforced by NPS employees for several years. They were included in the 2003 rulemaking in order to make them permanent and are included again in this rule, with only slight modifications, to remind the public of all the regulations that apply to over-snow transportation for each park area. Other regulations such as alcohol limits, BAT restrictions, daily entry limits and guiding restrictions that were new in the December 11, 2003, rule are included in this proposed rule.

The EA is intended to guide winter use management in the parks for a period of up to three winter seasons. During this time, the NPS will be preparing a long-term analysis on the effects of winter use in the parks. This long-term analysis will result in a permanent regulation on winter use management. The NPS will strive to complete this long-term analysis and rulemaking prior to the winter season 2006-2007. However, the NPS proposes to make this rule effective through the winter season 2006-2007 to allow for any unexpected delays.

Monitoring

Scientific studies and monitoring of winter visitor use and park resources (including air quality, natural soundscapes, wildlife, employee health and safety, water quality, and visitor experience) will continue. Selected areas of the parks, including sections of roads, will be closed to visitor use if scientific studies indicate that human presence or activities have a substantial effect on wildlife or other park resources that cannot otherwise be mitigated. A one-year notice will be provided before any such closure would be implemented unless immediate closure is deemed necessary to avoid impairment of park resources. Due to the temporary nature of these regulations, it would be impractical to utilize the adaptive management provisions of the SEIS and the December 11, 2003, final rule. Most non-emergency changes in park management implemented under the adaptive management framework would have been implemented only after at least one or two years of monitoring, followed by a 6- to 12-month implementation period. The superintendent will continue to have the authority under 36 CFR 1.5 to take emergency actions to protect park resources or values.

Best Available Technology Restrictions

To mitigate impacts to air quality and the natural soundscape, NPS is proposing to require that all recreational snowmobiles meet air and sound emission restrictions, hereafter referred to as best available technology (BAT) restrictions, to operate in Yellowstone. For the winter 2003-2004, the NPS certified 12 different snowmobile models (from various manufacturers) as meeting the BAT restrictions. For air emissions restrictions, BAT means all snowmobiles must achieve a 90% reduction in hydrocarbons and a 70% reduction in carbon monoxide, relative to EPA's baseline emissions assumptions for conventional two-stroke snowmobiles. For sound restrictions, snowmobiles must operate at or below 73 dB(A) as measured at full throttle according to Society of Automotive Engineers J192 test procedures (revised 1985). The superintendent will maintain a list of approved snowmobile makes, models, and year of manufacture that meet BAT restrictions.

To comply with the BAT air emission restrictions, beginning with the 2005 model year (snowmobiles available for retail purchase in fall 2004), all snowmobiles must be certified under 40 CFR 1051 to a Family Emission Limit (FEL) no greater than 15 g/kW-hr for hydrocarbons and 120 g/kW-hr for carbon monoxide. For 2004 model year snowmobiles, measured emission levels (official emission results with no deterioration factor applied) must comply with the emission limits previously specified. Pre-2004 model year snowmobiles may be operated only if they have been shown to have emissions that do not exceed the limits specified above. Snowmobiles must be tested on a five-mode engine dynamometer, consistent with the test procedures specified by EPA (40 CFR 1051 and 1065). Other test methods could be approved by NPS on a case-by-case basis.

We are adopting the FEL method of demonstrating compliance with BAT because it has several advantages. First, use of FEL will ensure that all individual snowmobiles entering the parks achieve our emissions requirements, unless modified or damaged (under this proposed regulation, snowmobiles which are modified in such a way as to increase air or sound emissions will not be in compliance with BAT and not permitted to enter the parks). For this reason, FEL is the best mechanism to protect park air quality. Use of FEL will also represent the least amount of administrative burden on the snowmobile manufacturers to demonstrate compliance with NPS BAT requirements. Further, the EPA has the authority to insure that manufacturers' claims on their FEL applications are valid. EPA also requires that manufacturers conduct production line testing (PLT) to demonstrate that machines being manufactured actually meet the certification levels. If PLT indicates that emissions exceed the FEL levels, then the manufacturer is required to take corrective action. Through EPA's ability to audit manufacturers' emissions claims, NPS will have sufficient assurance that emissions information and documentation will be reviewed and enforced by the EPA. FEL also takes into account other factors, such as the deterioration rate of snowmobiles (some snowmobiles may produce more emissions as they age), lab-to-lab variability, test-to-test variability, and production line variance. In addition, under the EPA's regulations, all snowmobiles manufactured must be labeled with FEL air emissions information. This will help to ensure that our emissions requirements are consistent with these labels and the use of FEL will avoid potential confusion for consumers.

To determine compliance with the BAT sound emission restrictions, snowmobiles must be tested using SAE J192 (revised 1985) test procedures. We recognize that the SAE updated these test procedures in 2003. However, the changes between the 2003 and 1985 test procedures could alter the measurement results. The BAT requirement was established using 1985 test procedures (in addition to information provided by industry and modeling). Therefore, to be consistent with our BAT requirements, we must continue to use the 1985 test. We are interested in transitioning to the 2003 J192 test procedures, and we will continue to evaluate this issue after these regulations are implemented. Other test methods could be approved by NPS on a case-by-case basis.

The initial BAT requirement for sound was established by reviewing individual machine results from side-by-side testing performed by the NPS’ contractor, Harris Miller Miller & Hanson Inc. (HMMH) and the State of Wyoming's contractor, Jackson Hole Scientific Investigations (JHSI). Six four-stroke snowmobiles were tested for sound emissions. These emission reports independently concluded that all the snowmobiles tested between 69.6 and 77.0 dB(A) using the J192 protocol. On average, the HMMH and JHSI studies measured four-strokes at 73.1 and 72.8 dB(A) at full throttle, respectively. The SAE J192 (revised 1985) test also allows for a tolerance of 2 dB(A) over the sound limit to account for variations in weather, snow conditions, and other factors.

Snowmobiles may be tested at any barometric pressure equal to or above 23.4 inches Hg uncorrected (as measured at or near the test site). This exception to the SAE J192 test procedures also maintains consistency with the testing conditions used to determine the BAT requirement. This reduced barometric pressure allowance is necessary since snowmobiles were tested at the high elevation of Yellowstone National Park, where atmospheric pressure is lower than the SAE J192's requirements due to the park's elevation. Initial testing data indicates that snowmobiles may test quieter at high elevation, and likewise be able to pass our BAT requirements at higher elevations but fail our requirements near sea level.

All commercially guided recreational snowmobiles operating within YNP would be required to meet the BAT restrictions.

Currently, little data exists on snowcoach emissions, with the exception of one laboratory study commissioned by the State of Wyoming that used a chassis dynamometer to measure emissions from one V-10 powered Ford E-350 15-passenger van (Lela, Chad C. and Jeff L. White, 2002). Field conditions in this study could not be replicated accurately in the laboratory because the percent of time a snowcoach operates in open-loop mode (with the throttle wide open, producing higher emissions) versus closed-loop mode (at normal throttle, producing extremely low emissions) is unknown. Running in snow on tracks requires more power than operation with wheels and thus the vehicle may operate in open-loop mode more frequently. In the EA, for air quality modeling purposes, snowcoaches were assumed to operate in open-loop mode ⅔ of the time and closed-loop mode ⅓ of the time.

Currently no industry standard air emissions testing procedure exists for snowcoaches that would be cost effective to implement in the field. Due to the cost, it would be impractical to use an engine or chassis dynamometer in the field to determine emissions of individual snowcoaches.

Approximately 70 snowcoaches operated in Yellowstone National Park during the winter of 2003-2004. Under concessions contracts issued in 2003, 78 snowcoaches are currently authorized. During the winter of 2003-2004, an average of 22 snowcoaches came into Yellowstone each day. Approximately 29 snowcoaches operating in the park were manufactured by Bombardier and were designed specifically for oversnow travel. Those 29 snowcoaches were manufactured prior to 1983 and are referred to as “historic snowcoaches” for the purpose of this rulemaking. All other snowcoaches are 12- to 15-passenger vans that have been converted for oversnow travel using tracks and/or skis.

Therefore, the NPS is proposing to require that all non-historic snowcoaches meet the EPA standards that were applicable when the vehicle was manufactured. Most of these vehicles achieve EPA's Tier 1 emissions standards, which were phased-in from 1994-1996. To ensure that vehicles are meeting EPA's emissions standards, the NPS would require that the vehicle's original pollution control equipment not be modified or disabled. Snowcoach owners would be required to certify to the NPS’ and make available for inspection upon NPS' request, that the vehicle's pollution control equipment is as originally manufactured.

In comparison with four-stroke snowmobiles, snowcoaches operating within EPA's Tier 1 standards are cleaner, especially given their ability to carry up to seven times more passengers (Lela and White 2002). In addition, in 2004 EPA began phasing-in Tier 2 emissions standards for multi-passenger vans, and they will be fully phased-in by 2009. Tier 2 standards will require that vehicles be even cleaner than Tier 1. Tier 2 standards would also significantly reduce the open loop mode of operation. If Tier 2 vehicles are converted to snowcoaches, then the emissions attributable to them would be further reduced in the parks.

If any of the vehicle's pollution control equipment, including the catalytic converter, associated piping, and other related parts that may release CO, HC or PM emissions in the event of mechanical failure or deterioration, had exceeded its useful life as published by the EPA, then the owner would be required to replace it to access Yellowstone. Generally, useful life for new vehicles (since 1996) is 120,000 miles or 11 years, whichever comes first. NPS is proposing that when a snowcoach owner replaces any pollution control equipment under this requirement, the new pollution control equipment be the original equipment, available from the vehicle's manufacturer rather than after-market equipment. If original equipment is no longer available snowcoach owners would be permitted to install after-market equipment. The NPS is proposing that snowcoach owners install original equipment if available because it generally has a longer useful life and may be more efficient in reducing pollutants, although both are certified to the same level of emissions reduction. These air emissions restrictions would be implemented during the 2005-2006 winter season.

NPS would continue to work with snowcoach owners, researchers, and other experts during future winters to better understand snowcoach emissions and to determine the most effective field testing methods. The NPS ultimately intends to set numerical performance-based limits for emissions before snowcoaches are allowed entry into the park. The NPS is proposing to allow additional time to phase-in air emissions restrictions for snowcoaches because of the substantial investment required to upgrade snowcoach technology and to encourage additional investment in mass transit snowcoaches.

Sound restrictions were proposed for snowcoaches under the 2003 regulations. However, the phase-in proposed at that time is outside the timeframe for this EA and proposed regulation. Therefore, any future sound restrictions will be considered in a longer term rulemaking.

Historic snowcoaches (defined as a Bombardier snowcoach manufactured in 1983 or earlier) would be exempt from air or sound restrictions; however NPS will work with snowcoach owners to retrofit historic snowcoaches to meet the air and sound restrictions. The NPS is exempting historic snowcoaches from air and sound restrictions to maintain the character of winter motorized oversnow travel. The NPS also believes it is reasonable and prudent to work with outfitters and concessioners to determine how best to upgrade their equipment.

In GTNP and the Parkway, all recreational snowmobiles operating on the Continental Divide Snowmobile Trail (CDST) and Jackson Lake must meet the BAT restrictions. BAT restrictions would also apply to all snowmobiles originating at Flagg Ranch and traveling west on the Grassy Lake Road. Snowmobiles originating in the Targhee National Forest and traveling eastbound on the Grassy Lake Road would not be required to meet the BAT restrictions; however, these snowmobiles could not travel further than Flagg Ranch. The NPS is allowing this exception because the Grassy Lake Road in the Parkway is approximately 6 miles long, snowmobiles are not required to meet BAT restrictions on U.S. Forest Service lands, and the NPS wishes to honor the request of the USFS that these visitors be able to access food, fuel, and other amenities available at Flagg Ranch. Any commercially guided snowmobiles authorized to operate in the Parkway or Grand Teton will be required to meet BAT restrictions.

NPS will annually publish a list of snowmobile makes, models, and year of manufacture that meet BAT restrictions. Any snowmobile manufacturers may demonstrate that snowmobiles are compliant with the BAT air emissions requirements by submitting a copy of their application used to demonstrate compliance with EPA's general snowmobile regulation to the NPS (indicating FEL). We will accept this application information from manufacturers in support of conditionally certifying a snowmobile as BAT, pending ultimate review and certification by EPA at the same emissions levels identified in the application. Should EPA certify the snowmobile at a level that would no longer meet BAT requirements, this snowmobile would no longer be considered to be BAT compliant and would be phased-out according to a schedule determined by the NPS to be appropriate. For sound emissions, snowmobile manufacturers could submit the existing Snowmobile Safety and Certification Committee (SSCC) sound level certification form. Under the SSCC machine safety standards program, snowmobiles are certified by an independent testing company as complying with all SSCC safety standards, including sound standards. This regulation does not require the SSCC form specifically, as there could be other acceptable documentation in the future. The NPS will work cooperatively with the snowmobile manufacturers on appropriate documentation. The NPS intends to rely on certified air and sound emissions data from the private sector rather than establish its own independent testing program, which would be cost prohibitive. When certifying snowmobiles as BAT, NPS will announce how long the BAT certification applies. Generally, each snowmobile model would be approved for entry into the parks for six winter seasons after it was first listed. Based on NPS experience, six years represents the typical useful life of a snowmobile, and thus six years provides purchasers with a reasonable length of time where operation is allowed once a particular model is listed as being compliant.

Individual snowmobiles modified in such a way as to increase sound and air emissions of HC and CO beyond the proposed emission restrictions would be denied entry to the parks. For both snowcoaches and snowmobiles, it would be the responsibility of the end users, and guides and outfitters (or private snowcoach owners to the extent they are permitted entry into the parks) to ensure that their oversnow vehicles comply with all applicable restrictions. The requirement in Yellowstone that all snowmobilers travel with commercial guides will assist NPS in enforcing BAT requirements, since businesses providing commercial guiding services in the parks are bound by their contracts with the park to ensure that their clients' use only BAT snowmobiles. In addition, these businesses can ensure that snowmobiles used in the park are not modified in such a way as to increase sound or air emissions, and that BAT snowmobiles are properly maintained.

The restrictions on air and sound emissions proposed in this rule are not a restriction on what manufacturers may produce but an end-use restriction on which commercially produced snowmobiles and snowcoaches may be used in the parks. The NPS Organic Act (16 U.S.C. 1) authorizes the Secretary of the Interior to “promote and regulate” the use of national parks “by such means and measures as conform to the fundamental purpose of said parks * * * which purpose is to “conserve the scenery and the natural and historic objects and the wild life therein and to provide for the enjoyment of the same in such manner and by such means as will leave them unimpaired for the enjoyment of future generations.” Further, the Secretary is expressly authorized by 16 U.S.C. 3 to “make and publish such rules and regulations as he may deem necessary or proper for the use and management of the parks * * *.” This exercise of the NPS Organic Act authority is not an effort by the NPS to regulate manufacturers and is consistent with Sec. 310 of the Clean Air Act.

Since 2001, Yellowstone and Grand Teton National Parks have been converting their own administrative fleet of snowmobiles to four-stroke machines. These machines have proven successful in use throughout the parks. NPS intends to continue to purchase these snowmobiles for most administrative uses. However, the NPS recognizes that some administrative applications, such as off-trail boundary patrols in deep powder, towing heavy equipment or disabled sleds, or law enforcement uses may require additional power beyond that supplied by currently available snowmobiles that meet the BAT restrictions. In these limited cases, NPS may use snowmobiles that do not meet BAT restrictions proposed in this rule.

Use of Commercial Guides

To mitigate impacts to natural soundscapes, wildlife, and visitor and employee safety, all recreational snowmobiles operated in YNP must be accompanied by a commercial guide. This requirement will reduce conflicts with wildlife along roadways because guides will be trained to deal with such situations. Commercially guided parties tend to be larger in size, which reduces the overall number of encounters with wildlife and reduces the amount of time over-snow vehicles are audible. Commercial guides are educated in safety and are knowledgeable about park rules. Commercial guides must also have reasonable control over their clientele, which greatly reduces unsafe and illegal snowmobile use. Professional guides with contractual obligations to the NPS also permits more effective enforcement of park rules by the NPS. These guides receive rigorous multi-day training, perform guiding duties as employees of a business, and are experts at interpreting the resources of the parks to their clients. Commercial guides are employed by local businesses. Those jobs are not performed by NPS employees.

Commercial guides use a “follow-the-leader” approach, stopping often to talk with the group. They lead snowmobiles single-file through the park, using hand signals to pass information down the line from one snowmobile to the next, which has proven to be effective. Signals are used to warn group members about wildlife and other road hazards, indicate turns, and when to turn on or off the snowmobile. Further, all commercial guides are trained in basic first aid and CPR. In addition to first aid kits, they often carry satellite or cellular telephones, radios, or other communications devices for emergency use, and shovels to use in digging out vehicles. In this way, guides will ensure that park regulations are enforced and will provide a safer experience for visitors.

During the winter of 2003-2004, all snowmobilers were led by commercial guides for the first time in Yellowstone National Park's history. This had a significant positive effect on visitor health and safety. With all snowmobile access commercially guided, and adjusting visitation numbers to assume visitation was constant, park rangers issued 28% fewer snowmobile citations, 70% fewer moving violations, and made 85% fewer arrests.

Guided groups must contain no more than 11 snowmobiles, including the guide's machine. Individual snowmobiles may not be operated separately from a group within the park. A maximum group size of 11 was established so that no one party would be so large that a single guide could not safely direct and manage all party members. No minimum group size requirement is warranted at this time since commercially guided parties always have at least two snowmobiles—the guide and the customer. In addition, commercially guided snowmobile groups average 8 snowmobiles.

Except in emergency situations, guided parties must travel together and remain within a maximum distance of one-third mile of the first snowmobile in the group. This will insure that guided parties do not get spread too far out. One-third mile will allow for sufficient and safe spacing between individual snowmobiles within the guided party, allow the guide to maintain control over the group and minimize the impacts on wildlife and natural soundscapes.

In Grand Teton and the Parkway, all snowmobile parties traveling north from Flagg Ranch must be accompanied by a commercial guide. All other snowmobilers in Grand Teton and the Parkway do not have to be accompanied by a guide. The use of guides in Grand Teton and the Parkway is generally not required due to the low volume of use, the conditions for access to Jackson Lake for winter fishing, the through road characteristics of the CDST, as well as the inter-agency jurisdiction on the Grassy Lake Road.

Daily Snowmobile Limits

The number of snowmobiles that could operate in the parks each day would be limited under this rule. These limits are intended to mitigate impacts to air quality, employee and visitor health and safety, natural soundscapes, wildlife, and visitor experience. Once the daily snowmobile limits are reached, the only other means of public motorized access will be through the use of snowcoaches. No limits on snowcoach numbers are intended at this time. The limits are identified in Table 1. Use limits identified in Table 1 include guides since commercial guides are counted towards the daily limits. For YNP, the daily limits are identified for each entrance and location; for GTNP and the Parkway, the daily limits apply to total snowmobile use on the road segment and on Jackson Lake.

Limits are specifically identified for Old Faithful in this proposed rule since Xanterra Parks and Resorts, a park concessioner, provides snowmobile rentals and commercial guiding services there. This allows visitors additional opportunities to experience the park. For example, some visitors choose to enter the park on a snowcoach tour, spend two or more nights at Old Faithful's Snow Lodge, and go on a commercially guided snowmobile tour of the park during their stay at Old Faithful.

Those limits are listed in the following table:

Table 1.—Daily Snowmobile Entry Limits
Park entrance/road segment/location | Number of snowmobiles
YNP—North Entrance | 30
YNP—West Entrance | 400
YNP—East Entrance | 40
YNP—Old Faithful | 30
YNP—South Entrance and the Parkway (Flagg Ranch to South Entrance) | 220
GTNP and the Parkway—Total Use on Continental Divide Snowmobile Trail * | ** 50
Grassy Lake Road (Flagg-Ashton Road) | ** 50
Jackson Lake | ** 40
*The Continental Divide Snowmobile Trail lies within both GTNP and the Parkway. The 50 daily snowmobile use limit applies to total use on this trail in both parks.
** These users do not have to be accompanied by a guide.

The purpose of these limits is to impose strict limits on the numbers of snowmobiles that may use the parks in order to minimize resulting impacts. Compared to historical use where peak days found as many as 1,700 snowmobiles in the parks, these limits represent a considerable reduction, and slightly less than the historic average of Yellowstone entries. These limits will reduce snowmobile usage from historic levels.

The daily snowmobile limits are based on the analysis contained in the EA, which concluded that these limits, combined with other elements of this rule, would prevent major adverse impacts thus preventing impairment to park resources and values while allowing for an appropriate range of experiences available to park visitors.

What Terms Do I Need To Know?

The NPS has added definitions for oversnow vehicle, designated oversnow route, and commercial guides. For snowmobiles, the NPS is using the definition found at 36 CFR 1.4, as there is no need to alter that definition at this time. Earlier rulemakings specific to Yellowstone, Grand Teton and the Parkway referenced “unplowed roadways” and that terminology was changed to “designated oversnow routes” to more accurately portray the condition of the route being used for oversnow travel. Despite this terminology change, these routes will remain entirely on roads or water surfaces used by motor vehicles and motorboats during other seasons. Previous rulemakings also referred only to snowmobiles or snowcoaches. Since there is a strong likelihood that new forms of machines will be developed that can travel on snow, a broader definition was developed to insure that such new technology remained subject to regulation. When a particular requirement or restriction only applies to a certain type of machine (for example, some concession restrictions only apply to snowcoaches) then the specific machine is stated and only applies to that type of vehicle, not all oversnow vehicles. However, oversnow vehicles that do not meet the strict definition of a snowcoach (i.e., both weight and passenger capacity) would be subject to the same requirements as snowmobiles. The definitions listed under § 7.13(l)(1) will apply to all three parks. These definitions may be further clarified based on changes in technology.

Where Must I Operate My Snowmobile in the Park?

Specific routes are listed where snowmobiles may operate, but this proposed rule also provides latitude for the superintendent to modify those routes available for use. When determining what routes are available for use, the superintendent will use the criteria in § 2.18(c), and may also take other issues into consideration including the most direct route of access, weather and snow conditions, the necessity to eliminate congestion, the necessity to improve the circulation of visitor use patterns in the interest of public safety and protection of park resources.

Snowmobiles authorized to operate on the frozen surface of Jackson Lake may gain access to the lake by trailering their snowmobiles to the parking areas near the designated access points via the plowed roadway. There is no direct access from the CDST to Jackson Lake, and use limits established for each area are distinctly separate.

What Other Conditions Apply to the Operation of Oversnow Vehicles?

A similar section existed in previous snowmobile regulations entitled “What other conditions are placed on snowmobile and snowcoach operations?” and addressed many of the same issues. A few minor changes have been made to those operating requirements, including modifying the operating hours by one hour, limiting idling to 5 minutes at any one time, and no longer allowing operation of a snowmobile by persons holding only a learner's permit. These modifications were made based on experiences over the last few winters with winter use operations and the need to adjust requirements for safety and resource impact considerations.

What Conditions Apply to Alcohol Use While Operating an Oversnow Vehicle?

Although the regulations in 36 CFR 4.23 apply to oversnow vehicles, additional regulations were needed to address the issue of under-age drinking while operating a snowmobile and snowcoach operators or snowmobile guides operating under the influence while performing services for others. Many states have adopted similar alcohol standards for under-age operators and commercial drivers and the NPS feels it is necessary to specifically include these regulations to help mitigate potential safety concerns.

The alcohol level for minors (anyone under the age of 21) is set at .02. Although the NPS endorses “zero tolerance”, a very low Blood Alcohol Content (BAC) is established to avoid a chance of a false reading. Mothers Against Drunk Driving and other organizations have endorsed this enforcement posture and the NPS agrees that under-age drinking and driving, particularly in a harsh winter environment, will not be allowed.

In the case of snowcoach operators or snowmobile guides, a low BAC limit is also necessary. Persons operating a snowcoach are likely to be carrying 8 or more passengers in a vehicle with tracks or skis that is more challenging to operate than a wheeled vehicle, and along oversnow routes that could pose significant hazards should the driver not be paying close attention or have impaired judgement. Similarly, persons guiding others on a snowmobile have put themselves in a position of responsibility for the safety of other visitors and for minimizing impacts to park wildlife and other resources. Should the guide's judgement be impaired, hazards such as wildlife on the road or snow obscured features, could endanger all members of the group in an unforgiving climate. For these reasons, the NPS is requiring that all guides be held to a stricter than normal standard for alcohol consumption. Therefore, the NPS has established a BAC limit of .04 for snowcoach operators and snowmobile guides. This is consistent with federal and state rules pertaining to BAC thresholds for someone with a commercial drivers license.

Do Other NPS Regulations Apply to the Use of Oversnow Vehicles?

Relevant portions of 36 CFR 2.18, including § 2.18(c), have been incorporated within these proposed regulations. Some portions of 36 CFR 2.18 and 2.19 are superseded by these proposed regulations, which allows these proposed regulations to govern maximum operating decibels, operating hours, and operator age (this is applicable to these park units only). In addition, 36 CFR 2.18(b) would not apply in Yellowstone, while it would apply in Grand Teton and the Parkway. This is due to the existing concurrent jurisdiction in Grand Teton and the Parkway. These two units are solely within the boundaries of the State of Wyoming and national park rangers work concurrently with state and county officers enforcing the laws of the State of Wyoming. The proposed rule also supersedes 36 CFR 2.19(b) because it provides for the towing of people behind an oversnow vehicle. The proposed rule prohibits towing of persons on skis, sleds, or other sliding devices by motor vehicle or snowmobile, except in emergency situations. Towing people, especially children, is a potential safety hazard and health risk due to road conditions, traffic volumes, and direct exposure to snowmobile emissions. This rule does not affect supply sleds attached by a rigid device or hitch pulled directly behind snowmobiles or other oversnow vehicles as long as no person or animal is hauled on them. Other provisions of 36 CFR Parts 1 and 2 continue to apply to the operation of oversnow vehicles unless specifically excluded here.

Are There Any Other Forms of Non-Motorized Oversnow Transportation Allowed in the Park?

YNP has specifically prohibited dog sledding and ski-joring (the practice of a skier being pulled by dogs or a vehicle) to prevent disturbance or harassment to wildlife. These restrictions have been in place for several years under regulatory authority and would now be codified in these regulations.

May I Operate a Snowplane?

Prior to the winter of 2002-2003, snowplanes were allowed on Jackson Lake within GTNP under a permit system. Based on the analysis set forth in the 2000 EIS and ROD, as reaffirmed in the EA, NPS has found and continues to believe that the use of snowplanes would impair park resources. As a result, and to avoid uncertainty based on the previous use on Jackson Lake, this proposed rule includes language that specifically prohibits the operation of snowplanes in each of these parks.

Is Violating Any of the Provisions of this Section Prohibited?

Some magistrates have interpreted the lack of a specific prohibitory statement to be ambiguous and therefore unenforceable. Although it would seem to be implicit that each instance of a failure to abide by specific requirements is a separate violation, the proposed regulation contains clarifying language for this purpose. Each occurrence of non-compliance with these regulations is a separate violation. However, it should also be noted that the individual regulatory provisions (i.e., each of the separately numbered subparagraphs throughout these three sections) could be violated individually and are of varying severity. Thus, each subparagraph violated can and should receive an individual fine in accordance with the issuance of the park's bail schedule as issued by the appropriate magistrate. It is not intended that violations of multiple subparagraphs of these regulations be treated as a single violation or subject only to a single fine.

Summary of Economic Analysis

This analysis examines five alternatives for temporary winter use plans in the Greater Yellowstone Area (Yellowstone National Park, Grand Teton National Park, and John D. Rockefeller, Jr., Memorial Parkway). Alternative 1 would permit snowcoachs only, banning recreational snowmobile use within the parks. Alternative 1 is similar to the conditions expected under the January 2001 final rule. Alternative 2 would emphasize snowcoach access while allowing some snowmobile use with 100% commercially guided trips. That alternative is similar to the conditions experienced during the 2003-2004 winter season. Alternative 3 balances snowmobile and snowcoach access, and permits 20% unguided trips in Yellowstone. Alternative 4 allows more snowmobile use than Alternative 3, but requires 100% commercially guided trips in Yellowstone. Alternative 4 is the preferred alternative. Finally, Alternative 5 allows more snowmobile use than Alternative 4, and permits 20% non-commercially guided trips in Yellowstone. Alternative 5 is similar to the conditions expected under the December 2003 final rule.

This analysis estimates the benefits and costs associated with the 5 alternatives relative to two baselines: Alternative 1, which would ban snowmobiles, and historic snowmobile use as represented by the 1997-1998 winter season. The rationale for using these two baselines flows from two regulatory actions and two federal district court rulings. NPS issued a special regulation on January 22, 2001, phasing in a snowmobile ban. In settling a lawsuit filed by the International Snowmobile Manufactures' Association and other plaintiffs regarding that regulation, NPS agreed to re-evaluate its winter use plan alternatives, and subsequently issued a special regulation on December 11, 2003, permitting snowmobile use subject to certain management restrictions. On December 16, 2003, the Washington, DC, District Court issued a ruling overturning the December 2003 regulation and implementing the January 2001 regulation. Following that ruling on February 10, 2004, the Wyoming District Court issued a preliminary injunction against implementing the January 2001 regulation.

These two rulings potentially imply the two baselines used in this analysis. In order to cover the potential range of analysis suggested by these rulings, NPS used Alternative 1 and historic snowmobile use as alternative baselines to estimate the benefits and costs of its proposed temporary winter use plan alternatives. NPS believes that the actual economic impacts of the proposed temporary winter use plan alternatives fall within the range of benefits and costs estimated relative to these two baselines.

The quantitative results of the benefit-cost analysis are summarized below for the Alternative 1 and the historical baselines, respectively. It is important to note that this analysis could not account for all costs or benefits due to limitations in available data. For example, the costs associated with adverse impacts to park resources and with law enforcement incidents are not reflected in the quantified net benefits presented in this summary. It is also important to note that the benefit-cost analysis addresses the economic efficiency of the different alternatives and not their distributive equity (i.e., does not identify the sectors or groups on which the majority of impacts fall). Therefore, additional explanation is required when interpreting the results of this benefit-cost analysis. An explanation of the selection of the preferred alternative is given following the summaries of quantified benefits and costs.

Quantified Benefits and Costs Relative to the Alternative 1 Baseline

The primary beneficiaries of Alternatives 2, 3, 4, and 5 relative to the Alternative 1 baseline are the park visitors who ride snowmobiles in the park and the businesses that serve them such as rental shops, restaurants, gas stations, and hotels. Overall, Alternative 5 should provide greater quantified benefits to snowmobiles than Alternatives 2 through 4. The daily caps on snowmobile use vary across the four alternatives, with Alternative 5 allowing the most snowmobiles per day into the parks. Alternatives 2, 3 (in 2004-2005), and 4 require snowmobilers to be part of a commercially guided tour, which is expected to reduce benefits to snowmobilers who prefer unguided tours or who face additional expenses from being forced to take a guided tour. Alternatives 3 (in 2005-2006 and beyond) and 5 allow for at least 20% of the tours to be unguided or led by non-commercial guides, which may somewhat mitigate the potential loss in benefits associated with the commercial guided tour requirement.

The primary consumer group that would incur costs under Alternatives 2, 3, 4, and 5 would be the park visitors who do not ride snowmobiles. Out of the set of alternatives that allow for continued snowmobile access to the parks, Alternative 2 is expected to impose the lowest costs on non-snowmobile users because of the lower daily limits and the commercially guided tour requirements.

Alternative 5 is expected to provide the greatest benefits to local businesses because it places the least restrictions on snowmobilers and is expected to result in the largest increase in visitation. Alternatives 2 and 4 are the most restrictive options for snowmobilers (primarily due to the requirement that all snowmobilers in Yellowstone must be on commercially guided tours) and are expected to result in the smallest increase in visitation relative to the Alternative 1 baseline among Alternatives 2 through 5.

Based on the results of this analysis, the losses to non-snowmobilers generally outweigh the gains to snowmobilers and local businesses. However, there are a number of uncertainties that may influence this result. The most important factor is that this analysis applies the losses to non-snowmobilers that were determined from a survey conducted in Yellowstone to non-snowmobilers in Grand Teton. This may overstate the losses to non-snowmobilers in Grand Teton because there is less snowmobile use in Grand Teton than in Yellowstone, which may imply that non-snowmobilers are less affected by their presence. In addition, snowmobile use in Grand Teton tends to be in separate areas of the park from non-snowmobile activities to a greater extent than for Yellowstone where there is much more overlap in the areas used by these visitors.

The present values of quantified net benefits (benefits minus costs) are presented in Table 1 for the Alternative 1 baseline. As noted above, these quantified net benefits do not account for certain costs associated with the protection of park resources or with law enforcement incidents. Further, these quantified net benefits do not reflect potentially significant distributive impacts on local communities. The amortized quantified net benefits per year are presented in Table 2 for the Alternative 1 baseline.

Table 1.—Total Present Value of Quantified Net Benefits for the Winter Use Plans in the Greater Yellowstone Area 2004-2005 Through 2006-2007 Relative to the Alternative 1 Baseline
| Total present value of quantified net benefits
Alternative 2
Discounted at 3%ᵃ | -$32,916,000 to -$15,355,580
Discounted at 7%ᵃ | -$30,514,550 to -$14,230,820
Alternative 3
Discounted at 3%ᵃ | -$42,684,800 to -$19,252,100
Discounted at 7%ᵃ | -$39,607,950 to -$17,966,630
Alternative 4
Discounted at 3%ᵃ | -$44,430,830 to -$25,785,420
Discounted at 7%ᵃ | -$41,197,880 to -$23,913,490
Alternative 5
Discounted at 3%ᵃ | -$38,634,080 to -$12,498,680
Discounted at 7%ᵃ | -$35,822,200 to -$11,591,350
ᵃ Office of Management and Budget Circular A-4 recommends a 7% discount rate in general, and a 3% discount rate when analyzing impacts to private consumption.

Table 2.—Amortized Quantified Net Benefits per Year for the Winter Use Plans in the Greater Yellowstone Area 2004-2005 Through 2006-2007 Relative to the Alternative 1 Baseline
| Amortized quantified net benefits per yearᵇ
Alternative 2
Discounted at 3%ᵃ | -$11,636,805 to -$5,428,664
Discounted at 7%ᵃ | -$11,627,620 to -$5,422,678
Alternative 3
Discounted at 3%ᵃ | -$15,089,949 to -$6,803,579
Discounted at 7%ᵃ | -$15,092,233 to -$6,843,494
Alternative 4
Discounted at 3%ᵃ | -$15,707,647 to -$9,115,929
Discounted at 7%ᵃ | -$15,698,521 to -$9,112,275
Alternative 5
Discounted at 3%ᵃ | -$13,658,320 to -$4,418,663
Discounted at 7%ᵃ | -$13,650,109 to -$4,416,903
ᵃ Office of Management and Budget Circular A-4 recommends a 7% discount rate in general, and a 3% discount rate when analyzing impacts to private consumption.
ᵇ This is the present value of quantified net benefits reported in Table 1 amortized over the three-year analysis timeframe at the indicated discount rate.

Quantified Benefits and Costs Relative to the Historical Use Baseline

The primary losses under Alternatives 1 through 5 relative to the historical use baseline accrue to the park visitors who ride snowmobiles in the parks and the businesses that serve them. Overall, Alternative 1 would impose greater losses on snowmobilers since it would ban snowmobiles in the parks. The losses associated with Alternatives 2 through 5 are less since those alternatives would allow some level of snowmobile use. Alternatives 2 and 4 would also require 100% commercially guided tours. That feature is expected to increase losses to snowmobilers who prefer unguided tours or who face additional expenses from being forced to take commercially guided tours.

The primary beneficiaries of Alternatives 1 through 5 would be the park visitors who do not ride snowmobiles. Alternative 1 would yield the greatest benefits for non-snowmobilers. Out of the set of alternatives allowing continued snowmobile access to the parks, Alternative 2 is expected to generate the largest gains for non-snowmobilers because of the lower daily limits, stricter technology requirements, and the commercially guided tour requirement. Alternative 4 is expected to generate only slightly lower gains for non-snowmobile users than Alternative 2, with the biggest difference between Alternatives 2 and 4 coming from the higher daily use limits under Alternative 4.

For businesses, the losses relative to the historical use baseline are expected to be ordered in the same way as losses accruing to snowmobilers because they are driven largely by the number of visitors. Alternative 1 is expected to have the greatest negative impact on local businesses because it places the highest restrictions on snowmobilers and is expected to result in the largest decrease in visitation. Alternative 5 is the least restrictive option for snowmobilers and is expected to result in the smallest decrease in visitation.

Based on the results of this analysis, the gains to non-snowmobilers generally outweigh the losses to snowmobilers and local businesses. However, as noted in the summary of benefits and costs relative to the Alternative 1 baseline, there are a number of uncertainties that may influence this result. The most important factor is that this analysis applies the gains to non-snowmobilers that were determined from a survey conducted in Yellowstone to non-snowmobilers in Grand Teton. This may overstate the gains to non-snowmobilers in Grand Teton because there is less snowmobile use in Grand Teton than in Yellowstone, which may imply that non-snowmobilers are less affected by their presence. In addition, snowmobile use in Grand Teton tends to be in separate areas of the park from non-snowmobile activities to a greater extent than for Yellowstone where there is much more overlap in the areas used by these visitors.

The present values of quantified net benefits (benefits minus costs) are presented in Table 3 for the historical use baseline. As noted above, these quantified net benefits do not account for certain costs associated with the protection of park resources or with law enforcement incidents. Further, these quantified net benefits do not reflect potentially significant distributive impacts on local communities. The amortized quantified net benefits per year are presented in Table 4 for the historical use baseline.

The business output impacts presented in the Environmental Assessment reflect all businesses; however, 69 of the 74 snowmobile rental shops and guided tour operators with available revenue estimates were classified as small businesses in the regulatory flexibility analysis conducted for this rulemaking. Therefore, these business output impacts are considered to be strongly indicative of the impacts to small businesses. Additionally, 88% of the business output impacts estimated in the Environmental Assessment for all of Wyoming, Montana, and Idaho were concentrated in the immediate five counties surrounding the parks. Therefore, these business output impacts are also considered to be strongly indicative of the distributive equity impacts to the local communities.

Table 3.—Total Present Value of Quantified Net Benefits for the Winter Use Plans in the Greater Yellowstone Area 2004-2005 Through 2006-2007 Relative to the Historical Use Baseline
| Total Present Value of Quantified Net Benefits
Alternative 1
Discounted at 3% ᵃ | $122,314,860 to $130,820,690
Discounted at 7% ᵃ | $113,396,820 to $121,284,230
Alternative 2
Discounted at 3% ᵃ | $87,300,330 to $92,045,050
Discounted at 7% ᵃ | $80,934,930 to $85,334,010
Alternative 3
Discounted at 3% ᵃ | $76,587,670 to $81,101,950
Discounted at 7% ᵃ | $70,989,350 to $75,184,950
Alternative 4
Discounted at 3% ᵃ | $75,004,190 to $79,954,170
Discounted at 7% ᵃ | $69,534,980 to $74,125,250
Alternative 5
Discounted at 3% ᵃ | $77,031,490 to $81,229,710
Discounted at 7% ᵃ | $71,414,320 to $75,307,790
ᵃ Office of Management and Budget Circular A-4 recommends a 7% discount rate in general, and a 3% discount rate when analyzing impacts to private consumption.

Table 4.—Amortized Quantified Net Benefits per Year for the Winter Use Plans in the Greater Yellowstone Area 2004-2005 Through 2006-2007 Relative to the Historical Use Baseline
| Amortized Quantified Net Benefits per Yearᵇ
Alternative 1
Discounted at 3%ᵃ | $43,242,020 to $46,249,090
Discounted at 7%ᵃ | $43,210,050 to $46,215,560
Alternative 2
Discounted at 3%ᵃ | $30,863,320 to $32,540,720
Discounted at 7%ᵃ | $30,840,390 to $32,516,670
Alternative 3
Discounted at 3%ᵃ | $27,076,067 to $28,672,000
Discounted at 7%ᵃ | $27,050,610 to $28,649,350
Alternative 4
Discounted at 3%ᵃ | $26,516,260 to $28,266,230
Discounted at 7%ᵃ | $26,496,420 to $28,245,550
Alternative 5
Discounted at 3%ᵃ | $27,232,970 to $28,717,170
Discounted at 7%ᵃ | $27,212,550 to $28,696,160
ᵃOffice of Management and Budget Circular A-4 recommends a 7% discount rate in general, and a 3% discount rate when analyzing impacts to private consumption.
ᵇThis is the present value of quantified net benefits reported in Table 3 amortized over the three-year analysis timeframe at the indicated discount rate.

Explanation of Selected Preferred Alternative

The preferred alternative was selected because it best balances winter use with protection of park resources to ensure that adverse impacts from historical types and numbers of snowmobile uses do not occur. The preferred alternative demonstrates the NPS commitment to monitor and use results to adjust winter use program. Last winter, the NPS implemented the monitoring program that it committed to in the 2003 decision, and the results of that monitoring were used to help formulate the alternatives in this EA as well as guide the decisions being made. The preferred alternative applies the lessons learned in the winter of 2003-2004 relative to commercial guiding, which demonstrated, among other things, that 100% commercial guiding was very successful and offers the best opportunity for achieving goals of protecting park resources and allowing balanced use of the parks. Law enforcement incidents were reduced well below historic numbers, taking into account reduced visitation. That reduction is attributed to the quality of the guided program.

The preferred alternative uses strictly limited snowmobile numbers (below the historic average use level for Yellowstone) combined with best available technology requirements for snowmobiles and 100% commercial guiding to help ensure that the purpose and need for the environmental assessment is best met. With strictly limited snowmobile use combined with snowcoaches, park visitors will have a range of appropriate winter recreational opportunities. With the significant restrictions built into snowmobile use, this plan also ensures that these recreational activities will not impair or irreparably harm park resources or values.

Last winter was the first time the NPS had the opportunity to collect information on a strictly managed snowmobile program. The preferred alternative will allow the NPS to continue to collect additional monitoring data on strictly limited snowmobile and snowcoach use. The monitoring data is extremely important in helping the NPS understand the results of its management actions. Prior to the winter of 2003-2004, the only monitoring information the NPS had was on historic snowmobile use. The EIS, SEIS, and to a certain extent this EA relied on modeling to forecast impacts. The modeling is useful for comparison purposes so that managers can understand the relative differences among alternatives, but it does not replicate on-the-ground conditions. Monitoring measures actual outcomes. With only one winter's data on strictly managed snowmobile use, the ability of the NPS to understand the impacts of a strictly controlled management regime is limited. Implementing this plan will allow for additional winters of monitoring information.

The preferred alternative also supports the communities and businesses both near and far from the parks and will encourage them to have an economically sustainable winter recreation program. Peak snowmobile numbers allowed under the preferred alternative are below the historic averages, but the snowmobile limits should provide a viable program for winter access to the parks, and in combination with snowcoach access, support overall historic visitor use levels. The preferred alternative provides certainty for park visitors, communities, and businesses by laying out a program for winter use for up to the next three winters.

Compliance With Other Laws

Regulatory Planning and Review (Executive Order 12866)

This document is a significant rule and has been reviewed by the Office of Management and Budget under Executive Order 12866.

(1) This rule will not have an effect of $100 million or more on the economy. It will not adversely affect in a material way the economy, productivity, competition, jobs, the environment, public health or safety, or State, local, or tribal governments or communities. These conclusions are based on the report “Economic Analysis of Temporary Regulations on Snowmobile Use in the Greater Yellowstone Area” (RTI International, August 2004).

(2) This rule will not create a serious inconsistency or otherwise interfere with an action taken or planned by another agency. Implementing actions under this rule will not interfere with plans by other agencies or local government plans, policies, or controls since this is an agency specific change.

(3) This rule does not alter the budgetary effects of entitlements, grants, user fees, or loan programs or the rights or obligations of their recipients. It only affects the use of over-snow machines within specific national parks. No grants or other forms of monetary supplement are involved.

(4) This rule may raise novel legal or policy issues. The issue has generated local as well as national interest on the subject in the Greater Yellowstone Area. The NPS has been the subject of numerous lawsuits regarding winter use management.

Regulatory Flexibility Act

The Department of the Interior has determined that this document will have a significant economic effect on a substantial number of small entities under the Regulatory Flexibility Act (5 U.S.C. 601 et seq.). Therefore an Initial Regulatory Flexibility Analysis has been conducted. The information is contained in the report entitled “Economic Analysis of Temporary Regulations on Snowmobile Use in the Greater Yellowstone Area” (RTI International, August 2004). This initial report is available on the Yellowstone Web site. Final versions of these reports will be available upon publication of the final rule. The NPS is proposing an alternative that requires 100% guided snowmobiles in Yellowstone National Park to minimize impacts to park resources. Based on information available at this time, NPS believes that alternative 4 will minimize adverse economic effects to local businesses as compared to alternatives 1 and 2.

The NPS welcomes additional data from affected businesses to enable it to further analyze the effects of this rulemaking with respect to small businesses.

Small Business Regulatory Enforcement Fairness Act (SBREFA)

This rule is not a major rule under 5 U.S.C. 804(2), the Small Business Regulatory Enforcement Fairness Act. This rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises. This rulemaking has no effect on methods of manufacturing or production and specifically affects the Greater Yellowstone Area, not national or U.S. based enterprises.

Unfunded Mandates Reform Act

This rule does not impose an unfunded mandate on State, local, or tribal governments or the private sector of more than $100 million per year. The rule does not have a significant or unique effect on State, local or tribal governments or the private sector. It addresses public use of national park lands, and imposes no requirements on other agencies or governments.

Takings (Executive Order 12630)

In accordance with Executive Order 12630, the rule does not have significant takings implications. Access to private property located within or adjacent to the parks will still be afforded the same access during winter as before this rule. No other property is affected.

Federalism (Executive Order 13132)

In accordance with Executive Order 13132, the rule does not have sufficient federalism implications to warrant the preparation of a Federalism Assessment. It addresses public use of national park lands, and imposes no requirements on other agencies or governments.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

An Environmental Assessment and draft Finding of No Significant Impact (FONSI) have been completed and are also available for comment. The EA and draft FONSI are available for review by contacting Yellowstone or Grand Teton Planning Offices or at http://www.nps.gov/yell/winteruse-ea. Comments are being solicited separately on the EA/Draft FONSI and this proposed rule. See the Public Participation section for more information on commenting on the EA/Draft FONSI.

Government-to-Government Relationship with Tribes

In accordance with the President's memorandum of April 29, 1994, “Government to Government Relations with Native American Tribal Governments” (59 FR 22951) and 512 DM 2:

The NPS has evaluated potential effects on federally recognized Indian tribes and have determined that there are no potential effects. Numerous tribes in the area were consulted in the development of the previous SEIS. Their major concern was to reduce the adverse effects on wildlife by snowmobiles. This rule does that through implementation of the guiding requirements and disbursement of snowmobile use through the various entrance stations.

Clarity of Rule

Executive Order 12866 requires each agency to write regulations that are easy to understand. The NPS invites your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading; for example § 7.13 Yellowstone National Park.) (5) Is the description of the rule in the “Supplementary Information” section of the preamble helpful in understanding the proposed rule? What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Drafting Information: The primary authors of this regulation were Kym Hall, Special Assistant, National Park Service, Washington DC; Kevin Schneider, Outdoor Recreation Planner, and John Sacklin, Management Assistant, Yellowstone National Park; and Gary Pollock, Management Assistant, Grand Teton National Park.

Public Participation: If you wish to comment, you may submit your comments by any one of several methods. You may mail comments to Winter Use Proposed Rule, Yellowstone National Park, P.O. Box 168, Yellowstone National Park, WY 82190. You may also comment via the Internet at http://www.nps.gov/yell/winteruse-ea. Finally, you may hand deliver comments to Winter Use Planning Office, Mammoth Hot Springs, Yellowstone National Park, Wyoming. All comments must be received by midnight of the close of the comment period. Our practice is to make comments, including names and addresses of respondents, available for public review during regular business hours. Individual respondents may request that the NPS withhold their home address from the rulemaking record, which they will honor to the extent allowable by law. If you wish us to withhold your name and/or address, you must state this prominently at the beginning of your comment. However, the NPS will not consider anonymous comments. The NPS will make all submissions from organizations or businesses, and from individuals identifying themselves as representatives or officials of organizations or businesses, available for public inspection in their entirety.

As noted previously, an EA/Draft FONSI is also open for public comment. Those wishing to comment on both this proposed rule and the EA/Draft FONSI should submit separate comments for each. EA/Draft FONSI comments may be addressed to: Temporary Winter Use Plan EA, P.O. Box 168, Yellowstone National Park, WY 82190. Additional information about the EA is available online at: http://www.nps.gov/yell/winteruse-ea.

List of Subjects in 36 CFR Part 7

District of Columbia, National parks, Reporting and Recordkeeping requirements.

The NPS proposes to amend 36 CFR Part 7 as set forth below:

PART 7—SPECIAL REGULATIONS, AREAS OF THE NATIONAL PARK SYSTEM

1. The authority for Part 7 continues to read as follows:

Authority: 16 U.S.C. 1, 3, 9a, 460(q), 462(k); Sec. 7.96 also issued under D.C. Code 8-137(1981) and D.C. Code 40-721 (1981).

2. Amend § 7.13 by revising paragraph (l) to read as follows:

§ 7.13 Yellowstone National Park.

* * * * *

(l)(1) What is the scope of this regulation? The regulations contained in paragraphs (l)(2) through (1)(17) of this section are intended to apply to the use of recreational and commercial snowmobiles. Except where indicated, paragraphs (1)(2) through (l)(17) do not apply to non-administrative snowmobile or snowcoach use by NPS, contractor or concessioner employees who live or work in the interior of Yellowstone, or other non-recreational users authorized by the Superintendent.

(2) What terms do I need to know? This paragraph also applies to non-administrative snowmobile use by the NPS, contractor or concessioner employees, or other non-recreational users authorized by the Superintendent.

Commercial guide means those guides who operate as a snowmobile guide for a fee or compensation and are authorized to operate in the park under a concession contract. In this section, “guide” also means “commercial guide.”

Oversnow route means that portion of the unplowed roadway located between the road shoulders and designated by snow poles or other poles, ropes, fencing, or signs erected to regulate over-snow activity. Oversnow routes include pullouts or parking areas that are groomed or marked similarly to roadways and are adjacent to designated oversnow routes. An oversnow route may also be distinguished by the interior boundaries of the berm created by the packing and grooming of the unplowed roadway. The only motorized vehicles permitted on oversnow routes are oversnow vehicles.

Oversnow vehicle means a snowmobile, snowcoach, or other motorized vehicle that is intended for travel primarily on snow and is authorized by the Superintendent to operate in the park. An oversnow vehicle that does not meet the definition of a snowcoach or a snowplane must comply with all requirements applicable to snowmobiles.

Snowcoach means a self-propelled mass transit vehicle intended for travel on snow, having a curb weight of over 1000 pounds (450 kilograms), driven by a track or tracks and steered by skis or tracks, and having a capacity of at least 8 passengers.

Snowplane means a self-propelled vehicle intended for oversnow travel and driven by an air-displacing propeller.

(3) May I operate a snowmobile in Yellowstone National Park? (i) You may operate a snowmobile in Yellowstone National Park in compliance with use limits, guiding requirements, operating hours and dates, equipment, and operating conditions established pursuant to this section. The Superintendent may establish additional operating conditions and shall provide notice of those conditions in accordance with § 1.7(a) of this chapter or in the Federal Register.

(ii) The authority to operate a snowmobile in Yellowstone National Park established in paragraph (l)(3)(i) of this section is in effect only through the winter season of 2006-2007.

(4) May I operate a snowcoach in Yellowstone National Park? (i) Commercial snowcoaches may be operated in Yellowstone National Park under a concessions contract. Non-commercial snowcoaches may be operated if authorized by the Superintendent. Snowcoach operation is subject to the conditions stated in the concessions contract and all other conditions identified in this section.

(ii) Beginning with the winter of 2005-2006, all non-historic snowcoaches must meet NPS air emissions requirements. These requirements are the applicable EPA emission standards for the vehicle at the time it was manufactured.

(iii) All critical emission-related exhaust components (as defined in 40 CFR 86.004-25(b)(3)(iii) through (v)) must be functioning properly. Malfunctioning critical emissions-related components must be replaced with the original equipment manufacturer (OEM) component, where possible. Where OEM parts are not available, aftermarket parts may be used. In general, catalysts that have exceeded their useful life must be replaced unless the operator can demonstrate the catalyst is functioning properly.

(iv) Modifying or disabling a snowcoach's original pollution control equipment is prohibited except for maintenance purposes.

(v) Individual snowcoaches may be subject to periodic inspections to determine compliance with the requirements of paragraphs (l)(4)(ii) through (l)(4)(iv) of this section.

(vi) Historic snowcoaches (Bombardier snowcoaches manufactured in 1983 or earlier) are not initially required to meet air emissions restrictions.

(vii) The authority to operate a snowcoach in Yellowstone National Park established in paragraph (l)(4)(i) of this section is in effect only through the winter season of 2006-2007.

(5) Must I operate a certain model of snowmobile? Only commercially available snowmobiles that meet NPS air and sound emissions requirements may be operated in the park. The Superintendent will approve snowmobile makes, models, and year of manufacture that meet those requirements. Any snowmobile model not approved by the Superintendent may not be operated in the park.

(6) How will the Superintendent approve snowmobile makes, models, and year of manufacture for use in the park? (i) Beginning with the 2005 model year, all snowmobiles must be certified under 40 CFR part 1051, to a Family Emission Limit no greater than 15 g/kW-hr for hydrocarbons and to a Family Emission Limit no greater than 120 g/kW-hr for carbon monoxide.

(A) 2004 model year snowmobiles may use measured emissions levels (official emission results with no deterioration factors applied) to comply with the emission limits specified in paragraph (l)(6)(i) of this section.

(B) Snowmobiles manufactured prior to the 2004 model year may be operated only if they have been shown to have emissions no greater than the requirements identified in paragraph (l)(6)(i) of this section.

(C) The snowmobile test procedures specified by EPA (40 CFR 1051 and 1065) shall be used to measure air emissions from model year 2004 and later snowmobiles. Equivalent procedures may be used for earlier model years.

(ii) For sound emissions snowmobiles must operate at or below 73 dB(A) as measured at full throttle according to Society of Automotive Engineers J192 test procedures (revised 1985). Snowmobiles may be tested at any barometric pressure equal to or above 23.4 inches Hg uncorrected.

(iii) The Superintendent may prohibit entry into the park of any snowmobile that has been modified in a manner that may adversely affect air or sound emissions.

(7) Where must I operate my snowmobile in Yellowstone National Park? You must operate your snowmobile only upon designated oversnow routes established within the park in accordance with § 2.18(c) of this chapter. The following oversnow routes are so designated for snowmobile use through the winter season of 2006-2007:

(i) The Grand Loop Road from its junction with Terrace Springs Drive to Norris Junction.

(ii) Norris Junction to Canyon Junction.

(iii) The Grand Loop Road from Norris Junction to Madison Junction.

(iv) The West Entrance Road from the park boundary at West Yellowstone to Madison Junction.

(v) The Grand Loop Road from Madison Junction to West Thumb.

(vi) The South Entrance Road from the South Entrance to West Thumb.

(vii) The Grand Loop Road from West Thumb to its junction with the East Entrance Road.

(viii) The East Entrance Road from the East Entrance to its junction with the Grand Loop Road.

(ix) The Grand Loop Road from its junction with the East Entrance Road to Canyon Junction.

(x) The South Canyon Rim Drive.

(xi) Lake Butte Road.

(xii) In the developed areas of Madison Junction, Old Faithful, Grant Village, Lake, Fishing Bridge, Canyon, Indian Creek, and Norris.

(xiii) Firehole Canyon Drive between noon and 9 p.m. each day.

(xiv) The Superintendent may open or close these routes, or portions thereof, for snowmobile travel after taking into consideration the location of wintering wildlife, appropriate snow cover, public safety, and other factors. Notice of such opening or closing shall be provided by one or more of the methods listed in § 1.7(a) of this chapter.

(xv) This paragraph (l)(7) also applies to non-administrative snowmobile use by NPS, contractor or concessioner employees, or other non-recreational users authorized by the Superintendent.

(xvi) Maps detailing the designated oversnow routes will be available from Park Headquarters.

(8) What routes are designated for snowcoach use? Authorized snowcoaches may only be operated on the routes designated for snowmobile use in paragraphs (l)(7)(i) through (l)(7)(xii) of this section and the following additional oversnow routes through the winter season 2006-2007:

(i) Firehole Canyon Drive.

(ii) Fountain Flat Road.

(iii) Virginia Cascades Drive.

(iv) North Canyon Rim Drive.

(v) Riverside Drive.

(vi) That portion of the Grand Loop Road from Canyon Junction to Washburn Hot Springs overlook.

(vii) The Superintendent may open or close these oversnow routes, or portions thereof, or designate new routes for snowcoach travel after taking into consideration the location of wintering wildlife, appropriate snow cover, public safety, and other factors. Notice of such opening or closing shall be provided by one of more of the methods listed in § 1.7(a) of this chapter.

(viii) This paragraph (l)(8) also applies to non-administrative snowcoach use by NPS, contractor or concessioner employees, or other non-recreational users authorized by the Superintendent.

(9) Must I travel with a commercial guide while snowmobiling in Yellowstone and what other guiding requirements apply? (i) All recreational snowmobile operators must be accompanied by a commercial guide.

(ii) Snowmobile parties must travel in a group of no more than 11 snowmobiles, including that of the guide.

(iii) Guided parties must travel together within a maximum of one-third mile of the first snowmobile in the group.

(10) Are there limits established for the numbers of snowmobiles permitted to operate in the park each day? The numbers of snowmobiles allowed to operate in the park each day will be limited to a certain number per entrance or location. The limits are listed in the following table:

Table 1.—to § 7.13—Daily Snowmobile Limits
Park entrance/location | Total number of commercially guided snowmobile allocations
(i) YNP—North entrance | 30
(ii) YNP—West entrance | 400
(iii) YNP—South entrance | 220
(iv) YNP—East entrance | 40
(v) YNP—Old Faithful | 30

(11) When may I operate my snowmobile or snowcoach? The Superintendent will determine operating hours and dates. Expect for emergency situations, changes to operating hours may be made annually and the public will be notified of those changes through one or more of the methods listed in § 1.7(a) of this chapter.

(12) What other conditions apply to the operation of oversnow vehicles? (i) The following are prohibited:

(A) Idling an oversnow vehicle more than 5 minutes at any one time.

(B) Driving an oversnow vehicle while the driver's motor vehicle license or privilege is suspended or revoked.

(C) Allowing or permitting an unlicensed driver to operate an oversnow vehicle.

(D) Driving an oversnow vehicle in willful or wanton disregard for the safety of persons, property, or park resources or otherwise in a reckless manner.

(E) Operating an oversnow vehicle without a lighted white headlamp and red taillight.

(F) Operating an oversnow vehicle that does not have brakes in good working order.

(G) The towing of persons on skis, sleds or other sliding devices by oversnow vehicles, except in emergency situations.

(ii) The following are required:

(A) All oversnow vehicles that stop on designated routes must pull over to the far right and next to the snow berm. Pullouts must be utilized where available and accessible. Oversnow vehicles may not be stopped in a hazardous location or where the view might be obscured, or operating so slowly as to interfere with the normal flow of traffic.

(B) Oversnow vehicle drivers must possess a valid motor vehicle driver's license. A learner's permit does not satisfy this requirement. The license must be carried by the driver at all times.

(C) Equipment sleds towed by a snowmobile must be pulled behind the snowmobile and fastened to the snowmobile with a rigid hitching mechanism.

(D) Snowmobiles must be properly registered and display a valid registration from the United States or Canada.

(iii) The Superintendent may impose other terms and conditions as necessary to protect park resources, visitors, or employees. The public will be notified of any changes through one or more methods listed in § 1.7(a) of this chapter.

(iv) This paragraph (l)(12) also applies to non-administrative snowmobile use by NPS, contractor or concessioner employee, or other non-recreational users as authorized by the Superintendent.

(13) What conditions apply to alcohol use while operating an oversnow vehicle? In addition to the regulations contained in 36 CFR 4.23, the following conditions apply:

(i) Operating or being in actual physical control of an oversnow vehicle is prohibited when the driver is under 21 years of age and the alcohol concentration in the driver's blood or breath is 0.02 grams or more of alcohol per 100 milliliters of blood or 0.02 grams or more of alcohol per 210 liters of breath.

(ii) Operating or being in actual physical control of an oversnow vehicle is prohibited when the driver is a snowmobile guide or a snowcoach driver and the alcohol concentration in the operator's blood or breath is 0.04 grams or more of alcohol per 100 milliliters of blood or 0.04 grams or more of alcohol per 210 liters of breath.

(iii) This paragraph (l)(13) also applies to non-administrative snowmobile use by NPS, contractor or concessioner employees, or other non-recreational users as authorized by the Superintendent.

(14) Do other NPS regulations apply to the use of oversnow vehicles? (i) The use of oversnow vehicles in Yellowstone is not subject to §§ 2.18 (b), (d), (e), and 2.19(b) of this chapter.

(ii) This paragraph (l)(14) also applies to non-administrative snowmobile use by NPS, contractor or concessioner employees, or other non-recreational users as authorized by the Superintendent.

(15) Are there any forms of non-motorized oversnow transportation allowed in the park? (i) Non-motorized travel consisting of skiing, skating, snowshoeing, or walking is permitted unless otherwise restricted pursuant to this section or other provisions of 36 CFR part 1.

(ii) The Superintendent may designate areas of the park as closed, reopen such areas, or establish terms and conditions for non-motorized travel within the park in order to protect visitors, employees, or park resources.

(iii) Dog sledding or ski-joring is prohibited.

(16) May I operate a snowplane in Yellowstone? The operation of a snowplane in Yellowstone is prohibited.

(17) Is violating any of the provisions of this section prohibited? Violating any of the terms, conditions or requirements of paragraphs (l)(1) through (l)(16) of this section is prohibited. Each occurrence of non-compliance with these regulations is a separate violation.

3. Amend § 7.21 by revising paragraph (a) to read as follows:

§ 7.21 John D. Rockefeller, Jr., Memorial Parkway.

(a)(1) What is the scope of this regulation? The regulations contained in paragraphs (a)(2) through (a)(17) of this section are intended to apply to the use of recreational and commercial snowmobiles. Except where indicated, paragraphs (a)(2) through (a)(17) do not apply to non-administrative snowmobile or snowcoach use by NPS, contractor or concessioner employees who live or work in the interior of Yellowstone, or other non-recreational users authorized by the Superintendent.

(2) What terms do I need to know? All the terms in § 7.13(l)(2) of this part apply to this section. This paragraph (a) also applies to non-administrative snowmobile use by NPS, contractor or concessioner employees, or other non-recreational users authorized by the Superintendent.

(3) May I operate a snowmobile in the Parkway? (i) You may operate a snowmobile in the Parkway in compliance with use limits, guiding requirements, operating hours and dates, equipment, and operating conditions established pursuant to this section. The Superintendent may establish additional operating conditions and shall provide notice of those conditions in accordance with § 1.7(a) of this chapter or in the Federal Register.

(ii) The authority to operate a snowmobile in the Parkway established in paragraph (a)(3)(i) of this section is in effect only through the winter season 2006-2007.

(4) May I operate a snowcoach in the Parkway? (i) Commercial snowcoaches may be operated in the Parkway under a concessions contract. Non-commercial snowcoaches may be operated if authorized by the Superintendent. Snowcoach operation is subject to the conditions stated in the concessions contract and all other conditions identified in this section.

(ii) Beginning with the winter of 2005-2006, all non-historic snowcoaches must meet NPS air emissions requirements. These requirements are the applicable EPA emission standards for the vehicle at the time it was manufactured.

(iii) All critical emission-related exhaust components (as defined in 40 CFR 86.004-25(b)(3)(iii) through (v)) must be functioning properly. Malfunctioning critical emission-related components must be replaced with the original equipment manufacturer (OEM) component, where possible. Where OEM parts are not available, after-market parts may be used. In general, catalysts that have exceeded their useful life must be replaced unless the operator can demonstrate the catalyst is functioning properly.

(iv) Modifying or disabling a snowcoach's original pollution control equipment is prohibited except for maintenance purposes.

(v) Individual snowcoaches may be subject to periodic inspections to determine compliance with the requirements of paragraphs (a)(4)(ii) through (a)(4)(iv) of this section.

(vi) Historic snowcoaches (Bombardier snowcoaches manufactured in 1983 or earlier) are not required to meet air emissions restrictions.

(vii) The authority to operate a snowcoach in the Parkway established in paragraph (a)(4)(i) of this section is in effect only through the winter season of 2006-2007.

(5) Must I operate a certain model of snowmobile? Only commercially available snowmobiles that meet NPS air and sound requirements may be operated in the Parkway. The Superintendent will approve snowmobile makes, models and year of manufacture that meet those restrictions. Any snowmobile model not approved by the superintendent may not be operated in the Parkway.

(6) How will the Superintendent approve snowmobile makes, models, and year of manufacture for use in the Parkway? (i) Beginning with the 2005 model year, all snowmobiles must be certified under 40 CFR part 1051, to a Family Emission Limit no greater than 15 g/kW-hr for hydrocarbons and to a Family Emission Limit no greater than 120 g/kW-hr for carbon monoxide.

(A) 2004 model year snowmobiles may use measure air emissions levels (official emission results with no deterioration factors applied) to comply with the air emission limits specified in paragraph (a)(6)(i) of this section.

(B) Snowmobiles manufactured prior to the 2004 model year may be operated only if they have shown to have air emissions no greater than the restrictions identified in paragraph (a)(6)(i) of this section.

(C) The snowmobile test procedures specified by EPA (40 CFR parts 1051 and 1065) shall be used to measure air emissions from model year 2004 and later snowmobiles. Equivalent procedures may be used for earlier model years.

(ii) For sound emissions snowmobiles must operate at or below 73dB(A) as measured at full throttle according to Society of Automotive Engineers J192 test procedures (revised 1985). Snowmobiles may be tested at any barometric pressure equal to or above 23.4 inches Hg uncorrected.

(iii) These air and sound emissions restrictions shall not apply to snowmobiles originating in the Targhee National Forest and traveling on the Grassy Lake Road to Flagg Ranch. However these snowmobiles may not travel further into the Parkway than Flagg Ranch unless they meet the air and sound emissions and all other requirements of this section.

(iv) The Superintendent may prohibit entry into the Parkway of any snowmobile that has been modified in a manner that may adversely affect air or sound emissions.

(7) Where must I operate my snowmobile in the Parkway? You must operate your snowmobile only upon designated oversnow routes established within the Parkway in accordance with § 2.18(c) of this chapter. The following oversnow routes are so designated for snowmobile use through the winter season of 2006-2007:

(i) The Continental Divide Snowmobile Trail (CDST) along U.S. Highway 89/287 from the southern boundary of the Parkway north to the Snake River Bridge.

(ii) Along U.S. Highway 89/287 from the Snake River Bridge to the northern boundary of the Parkway.

(iii) Grassy Lake Road from Flagg Ranch to the western boundary of the Parkway.

(iv) The Superintendent may open or close these routes, or portions thereof, for snowmobile travel after taking into consideration the location of wintering wildlife, appropriate snow cover, public safety and other factors. Notice of such opening or closing shall be provided by one or more of the methods listed in § 1.7(a) of this chapter.

(v) This paragraph (a)(7) also applies to non-administrative snowmobile use by NPS, contractor or concessioner employees, or other non-recreational users authorized by the Superintendent.

(vi) Maps detailing the designated oversnow routes will be available from Park Headquarters.

(8) What routes are designated for snowcoach use? (i) Authorized snowcoaches may only be operated through the winter season of 2006-2007 on the route designated for snowmobile use in paragraph (a)(7)(ii) of this section. No other routes are open to snowcoach use.

(ii) The Superintendent may open or close this oversnow routes, or portions thereof, or designate new routes for snowcoach travel after taking into consideration the location of wintering wildlife, appropriate snow cover, public safety, and other factors. Notice of such opening or closing shall be provided by one or more of the methods listed in § 1.7(a) of this chapter.

(iii) This paragraph (a)(8) also applies to non-administrative snowcoach use by NPS, contractor or concessioner employees, or other non-recreational users authorized by the Superintendent.

(9) Must I travel with a commercial guide while snowmobiling in the Parkway, and what other guiding requirements apply? All recreational snowmobile operators using the oversnow route along U.S. Highway 89/287 from Flagg Ranch to the northern boundary of the parkway must be accompanied by a commercial guide. A guide is not required in other portions of the Parkway.

(i) Guided snowmobile parties must travel in a group of no more than 11 snowmobiles, including the guide.

(ii) Guided snowmobile parties must travel together within a maximum of one-third mile of the first snowmobile in the group.

(10) Are there limits established for the numbers of snowmobiles permitted to operate in the Parkway each day? (i) The numbers of snowmobiles allowed to operate in the Parkway each day will be limited to a certain number per road segment. The limits are listed in the following table:

Table 1 to § 7.21.—Daily Snowmobile Entry Limits
Park entrance/road segment | Total number of snowmobile entrance passes
(ii) GTNP and the Parkway—Total Use on CDST* | 50
(iii) Grassy Lake Road (Flagg-Ashton Road) | 50
(iv) Flagg Ranch to Yellowstone South Entrance | 220
*The Continental Divide Snowmobile Trail lies within both GTNP and the Parkway. The 50 daily snowmobile use limit applies to total use on this trail in both parks.

(11) When may I operate my snowmobile or snowcoach? The Superintendent will determine operating hours and dates. Except for emergency situations, changes to operating hours may be made annually and the public will be notified of those changes through publication in the Federal Register and through one or more of the methods listed in § 1.7(a) of this chapter.

(12) What other conditions apply to the operation of oversnow vehicles? (i) The following are prohibited:

(A) Idling an oversnow vehicle more than 5 minutes at any one time.

(B) Driving an oversnow vehicle while the operator's motor vehicle license or privilege is suspended or revoked.

(C) Allowing or permitting an unlicensed driver to operate an oversnow vehicle.

(D) Driving an oversnow vehicle in willful or wanton disregard for the safety of persons, property, or parkway resources or otherwise in a reckless manner.

(E) Operating an oversnow vehicle without a lighted white headlamp and red taillight.

(F) Operating an oversnow vehicle that does not have brakes in good working order.

(G) The towing of persons on skis, sleds or other sliding devices by oversnow vehicles, except in emergency situations.

(ii) The following are required:

(A) All oversnow vehicles that stop on designated routes must pull over to the far right and next to the snow berm. Pullouts must be utilized where available and accessible. Oversnow vehicles may not be stopped in a hazardous location or where the view might be obscured, or operating so slowly as to interfere with the normal flow of traffic.

(B) Oversnow vehicle drivers must possess a valid motor vehicle operator's license. The license must be carried by the driver at all times. A learner's permit does not satisfy this requirement.

(C) Equipment sleds towed by a snowmobile must be pulled behind the snowmobile and fastened to the snowmobile with a rigid hitching mechanism.

(D) Snowmobiles must be properly registered and display a valid registration from the United States or Canada.

(iii) The Superintendent may impose other terms and conditions as necessary to protect parkway resources, visitors, or employees. The public will be notified of any changes through one or more methods listed in § 1.7(a) of this chapter.

(iv) This paragraph (a)(12) also applies to non-administrative snowmobile use by NPS, contractor or concessioner employees, or other non-recreational users authorized by the Superintendent.

(13) What conditions apply to alcohol use while operating an oversnow vehicle? In addition to the regulations in 36 CFR 4.23, the following conditions apply:

(i) Operating or being in actual physical control of an oversnow vehicle is prohibited when the driver is under 21 years of age and the alcohol concentration in the driver's blood or breath is 0.02 grams or more of alcohol per 100 milliliters of blood or 0.02 grams or more of alcohol per 210 liters of breath.

(ii) Operating or being in actual physical control of an oversnow vehicle is prohibited when the driver is a snowmobile guide or a snowcoach driver and the alcohol concentration in the operator's blood or breath is 0.04 grams or more of alcohol per 100 milliliters of blood or 0.04 grams or more of alcohol per 210 liters of breath.

(iii) This paragraph (a)(13) also applies to non-administrative snowmobiles use by NPS, contractor or concessioner employees, or other non-recreational users authorized by the Superintendent.

(14) Do other NPS regulations apply to the use of oversnow vehicles? (i) The use of oversnow vehicles is not subject to §§ 2.18(d), (e), and 2.19(b) of this chapter.

(ii) This paragraph (a)(14) also applies to non-administrative snowmobile use by NPS, contractor or concessioner employees, or other non-recreational users as authorized by the Superintendent.

(15) Are there any forms of non-motorized oversnow transportation allowed in the parkway? (i) Non-motorized travel consisting of skiing, skating, snowshoeing, or walking is permitted unless otherwise restricted pursuant to this section or other provisions of 36 CFR Part 1.

(ii) The Superintendent may designate areas of the Parkway as closed, reopen such areas, or establish terms and conditions for non-motorized travel within the Parkway in order to protect visitors, employees, or park resources.

(iii) Dog sledding or ski-joring is prohibited.

(16) May I operate a snowplane in the Parkway? The operation of a snowplane in the Parkway is prohibited.

(17) Is violating any of the provisions of this section prohibited? Violating any of the terms, conditions or requirements of paragraphs (a)(1) through (a)(16) of this section is prohibited. Each occurrence of non-compliance with these regulations is a separate violation.

* * * * *

4. Amend § 7.22 by revising paragraph (g) to read as follows:

§ 7.22 Grand Teton National Park.

* * * * *

(g)(1) What is the scope of this regulation? The regulations contained in paragraphs (g)(2) through (g)(20) of this section are intended to apply to the use of recreational and commercial snowmobiles. Except where indicated, paragraphs (g)(2) through (g)(20) do not apply to non-administrative snowmobile or snowcoach use by NPS, contractor or concessioner employees who live or work in the interior of Yellowstone, or other non-recreational users authorized by the Superintendent.

(2) What terms do I need to know? All the terms in § 7.13(l)(1) of this part apply to this section. This paragraph (g) also applies to non-administrative snowmobile use by NPS, contractor or concessioner employees, or other non-recreational users authorized by the Superintendent.

(3) May I operate a snowmobile in the Grand Teton National Park? (i) You may operate a snowmobile in Grand Teton National Park in compliance with use limits, operating hours and dates, equipment, and operating conditions established pursuant to this section. The Superintendent may establish additional operating conditions and provide notice of those conditions in accordance with § 1.7(a) of this chapter or in the Federal Register.

(ii) The authority to operate a snowmobile in Grand Teton National Park established in paragraph (g)(3)(i) of this section is in effect only through the winter season of 2006-2007.

(4) May I operate a snowcoach in Grand Teton National Park? It is prohibited to operate a snowcoach in Grand Teton National Park except as authorized by the superintendent.

(5) Must I operate a certain model of snowmobile in the park? Only commercially available snowmobiles that meet NPS air and sound emissions requirements may be operated in the park. The Superintendent will approve snowmobile makes, models, and year of manufacture that meet those requirements. Any snowmobile model not approved by the Superintendent may not be operated in the park.

(6) How will the Superintendent approve snowmobile makes, models, and year of manufacture for use in Grand Teton? (i) Beginning with the 2005 model year, all snowmobiles must be certified under 40 CFR part 1051, to a Family Emission Limit no greater than 15 g/kW-hr for hydrocarbons and to a Family Emission Limit no greater than 120 g/kW-hr for carbon monoxide.

(A) 2004 model year snowmobiles may use measured air emissions levels (official emission results with no deterioration factors applied) to comply with the air emission limits specified in paragraph (g)(6)(i) of this section.

(B) Snowmobiles manufactured prior to the 2004 model year may be operated only if they have shown to have air emissions no greater than the requirements identified in paragraph (g)(6)(i) of this section.

(C) The snowmobile test procedures specified by EPA (40 CFR Parts 1051 and 1065) shall be used to measure air emissions from model year 2004 and later snowmobiles. Equivalent procedures may be used for earlier model years.

(ii) For sound emissions snowmobiles must operate at or below 73dB(A) as measured at full throttle according to Society of Automotive Engineers J192 test procedures (revised 1985). Snowmobiles may be tested at any barometric pressure equal to or above 23.4 inches Hg uncorrected.

(iii) These air and sound emissions requirements shall not apply to snowmobiles while in use to access lands authorized by paragraphs (g)(16) and (g)(18) of this section.

(iv) The Superintendent may prohibit entry into the park of any snowmobile that has been modified in a manner that may adversely affect air or sound emissions.

(7) Where must I operate my snowmobile in the park? You must operate your snowmobile only upon designated oversnow routes established within the park in accordance with § 2.18(c) of this chapter. The following oversnow routes are so designated for snowmobile use through the winter season 2006-2007:

(i) The frozen water surface of Jackson Lake for the purposes of ice fishing only. Those persons accessing Jackson Lake for ice fishing must possess a valid Wyoming fishing license and the proper fishing gear. Snowmobiles may only be used to travel to and from fishing locations on the lake.

(ii) The Continental Divide Snowmobile Trail along U.S. 26/287 from Moran Junction to the eastern park boundary and along U.S. 89/287 from Moran Junction to the north park boundary.

(iii) The Superintendent may open or close these routes, or portions thereof, for snowmobile travel, and may establish separate zones for motorized and non-motorized use on Jackson Lake, after taking into consideration the location of wintering wildlife, appropriate snow cover, public safety and other factors. Notice of such opening or closing shall be provided by one or more of the methods listed in § 1.7(a) of this chapter.

(iv) This paragraph (g)(7) also applies to non-administrative snowmobile use by NPS, contractor or concessioner employees, or other non-recreational users authorized by the Superintendent.

(v) Maps detailing the designated oversnow routes will be available from Park Headquarters.

(8) Must I travel with a commercial guide while snowmobiling in Grand Teton National Park? You will not be required to use a guide while snowmobiling in Grand Teton National Park.

(9) Are there limits established for the numbers of snowmobiles permitted to operate in the park each day? The numbers of snowmobiles allowed to operate in the park each day will be limited to a certain number per road segment or location. The snowmobile limits are listed in the following table:

Table 1 to § 7.22.—Daily Snowmobile Limits
Road segment/location | Total number of snowmobiles
(i) GTNP and the Parkway—Total Use on CDST * | 50
(ii) Jackson Lake | 40
* The Continental Divide Snowmobile Trail lies within both GTNP and the Parkway. The 50 daily snowmobile use limit applies to total use on this route in both parks.

(10) When may I operate my snowmobile? The Superintendent will determine operating hours and dates. Except for emergency situations, changes to operating hours or dates may be made annually and the public will be notified of those changes through one or more of the methods listed in § 1.7(a) of this chapter

(11) What other conditions apply to the operation of oversnow vehicles? (i) The following are prohibited:

(A) Idling an oversnow vehicle more than 5 minutes at any one time.

(B) Driving an oversnow vehicle while the operator's motor vehicle license or privilege is suspended or revoked.

(C) Allowing or permitting an unlicensed driver to operate an oversnow vehicle.

(D) Driving an oversnow vehicle in willful or wanton disregard for the safety of persons, property, or park resources or otherwise in a reckless manner.

(E) Operating an oversnow vehicle without a lighted white headlamp and red taillight.

(F) Operating an oversnow vehicle that does not have brakes in good working order.

(G) The towing of persons on skis, sleds or other sliding devices by oversnow vehicles.

(ii) The following are required:

(A) All oversnow vehicles that stop on designated routes must pull over to the far right and next to the snow berm. Pullouts must be utilized where available and accessible. Oversnow vehicles may not be stopped in a hazardous location or where the view might be obscured, or operating so slowly as to interfere with the normal flow of traffic.

(B) Oversnow vehicle drivers must possess a valid motor vehicle operator's license. The license must be carried by the driver at all times. A learner's permit does not satisfy this requirement.

(C) Equipment sleds towed by a snowmobile must be pulled behind the snowmobile and fastened to the snowmobile with a rigid hitching mechanism.

(D) Snowmobiles must be properly registered and display a valid registration from the United States or Canada.

(iii) The Superintendent may impose other terms and conditions as necessary to protect park resources, visitors, or employees. The public will be notified of any changes through one or more methods listed in § 1.7(a) of this chapter.

(iv) This paragraph (g)(11) also applies to non-administrative snowmobile use by NPS, contractor or concessioner employees, or other non-recreational users authorized by the Superintendent.

(12) What conditions apply to alcohol use while operating an oversnow vehicle? In addition to the regulations in 36 CFR 4.23, the following conditions apply:

(i) Operating or being in actual physical control of an oversnow vehicle is prohibited when the driver is under 21 years of age and the alcohol concentration in the driver's blood or breath is 0.02 grams or more of alcohol per 100 milliliters or blood or 0.02 grams or more of alcohol per 210 liters of breath.

(ii) Operating or being in actual physical control of an oversnow vehicle is prohibited when the driver is a snowmobile guide or a snow coach operator and the alcohol concentration in the driver's blood or breath is 0.04 grams or more of alcohol per 100 milliliters of blood or 0.04 grams or more of alcohol per 210 liters of breath.

(iii) This paragraph (g)(12) also applies to non-administrative snowmobile use by NPS, contractor or concessioner employees, or other non-recreational users authorized by the Superintendent.

(13) Do other NPS regulations apply to the use of oversnow vehicles? The use of oversnow vehicles in Grand Teton is not subject to §§ 2.18(d) and (e) and 2.19(b) of this chapter.

(14) Are there any forms of non-motorized oversnow transportation allowed in the park? (i) Non-motorized travel consisting of skiing, skating, snowshoeing, or walking is permitted unless otherwise restricted pursuant to this section or other provisions of 36 CFR Part 1.

(ii) The Superintendent may designate areas of the park as closed, reopen such areas, or establish terms and conditions for non-motorized travel within the park in order to protect visitors, employees, or park resources.

(iii) Dog sledding or ski-joring is prohibited.

(15) May I operate a snowplane in the park? The operation of a snowplane in Grand Teton National Park is prohibited.

(16) May I continue to access public lands via snowmobile through the park? Reasonable and direct access, via snowmobile, to adjacent public lands will continue to be permitted on designated routes through the park. Requirements established in this section related to snowmobile operator age, guiding and licensing do not apply on these oversnow routes. The following routes only are designated for access via snowmobile to public lands:

(i) From the parking area at Shadow Mountain directly along the unplowed portion of the road to the east park boundary.

(ii) Along the unplowed portion of the Ditch Creek Road directly to the east park boundary.

(17) For what purpose may I use the routes designated in paragraph (g)(16) of this section? You may use those routes designated in paragraph (g)(16) of this section only to gain direct access to public lands adjacent to the park boundary.

(18) May I continue to access private property within or adjacent to the park via snowmobile? Until such time as the United States takes full possession of an inholding in the park, the Superintendent may establish reasonable and direct access routes via snowmobile, to such inholding, or to private property adjacent to park boundaries for which other routes or means of access are not reasonably available. Requirements established in this section related to air and sound emissions, snowmobile operator age, licensing, and guiding do not apply on these oversnow routes. The following routes are designated for access to properties within or adjacent to the park:

(i) The unplowed portion of Antelope Flats Road off U.S. 26/89 to private lands in the Craighead Subdivision.

(ii) The unplowed portion of the Teton Park Road to the piece of land commonly referred to as the “Clark Property”.

(iii) From the Moose-Wilson Road to the land commonly referred to as the “Barker Property”.

(iv) From the Moose-Wilson Road to the land commonly referred to as the “Wittimer Property”.

(v) From the Moose-Wilson Road to those two pieces of land commonly referred to as the “Halpin Properties”.

(vi) From the south end of the plowed sections of the Moose-Wilson Road to that piece of land commonly referred to as the “JY Ranch”.

(vii) From Highway 26/89/187 to those lands commonly referred to as the “Meadows”, the “Circle EW Ranch”, the “Moulton Property”, the “Levinson Property” and the “West Property”.

(viii) From Cunningham Cabin pullout on U.S. 26/89 near Triangle X to the piece of land commonly referred to as the “Lost Creek Ranch”.

(ix) Maps detailing designated routes will be available from Park Headquarters.

(19) For what purpose may I use the routes designated in paragraph (g)(18) of this section? Those routes designated in paragraph (g)(18) of this section are only to access private property within or directly adjacent to the park boundary. Use of these roads via snowmobile is authorized only for the landowners and their representatives or guests. Use of these roads by anyone else or for any other purpose is prohibited.

(20) Is violating any of the provisions of this section prohibited? Violating any of the terms, conditions or requirements of paragraphs (g)(1) through (g)(19) of this section is prohibited. Each occurrence of non-compliance with these regulations is a separate violation.

Dated: August 27, 2004.
Craig Manson,
Assistant Secretary for Fish and Wildlife and Parks.

[FR Doc. 04-20021 Filed 9-3-04; 8:45 am]

BILLING CODE 4312-CT-P